DEPARTMENT OF TRANSPORTATION

Federal Railroad Administration

49 CFR Part 230

[Docket No. FRA 2005-20044, Notice No. 2]

RIN 2130-AB64

Inspection and Maintenance Standards for Steam Locomotives

AGENCY: Federal Railroad Administration (FRA), Department of Transportation (DOT).

ACTION: Final rule.

SUMMARY: On April 19, 2005, FRA published a notice of proposed rulemaking (NPRM) proposing to correct an inadvertent, small omission from FRA Form 4 (Boiler Specification Card) in the Steam Locomotive Inspection and Maintenance Standards. The form is used to record information about inspections of steam locomotive boilers. FRA received two comments supporting the adoption of the proposed rule. Therefore, FRA adopts the proposed rule as a final rule.

DATES: Effective Date: This rule is effective August 22, 2005.

FOR FURTHER INFORMATION CONTACT: George Scerbo, Motive Power and Equipment Safety Specialist, 1120 Vermont Avenue, NW., Mail Stop 25, Washington, DC 20590, (202) 493-6249, George.Scerbo@fra.dot.gov; or Melissa L. Porter, Trial Attorney, 1120 Vermont Avenue, NW., Mail Stop 10, Washington, DC 20590, (202) 493-6034, Melissa.Porter@fra.dot.gov.

SUPPLEMENTARY INFORMATION: On November 17, 1999, FRA published a final rule revising the agency's inspection and maintenance standards for steam locomotives (49 CFR part 230) (64 FR 62828). Appendix C to part 230 contains forms that railroads subject to the rule are required to complete. On FRA Form 4 entitled “Boiler Specification Card,” FRA inadvertently omitted three lines in the “Calculations” section that should have been included to record the shearing stress on rivets. Because the purpose of Form 4 is to document for FRA the current condition of the boiler and to keep up-to-date documentation of all repairs that have been made to the boiler, the omitted language is necessary on the form so that the current condition of the boiler can be documented accurately. The omitted language is as follows:

“Shearing stress on rivets:

Greatest shear stress on rivets in longitudinal seam___psi Location (course #)___; Seam Efficiency___”

On April, 19, 2005, FRA published an NPRM proposing to add the omitted language to Form 4. (70 FR 20337). Comments were due on May 19, 2005. FRA received two comments supporting the addition of the language to Form 4, but requesting clarification about whether the rule will only apply prospectively.

Because FRA did not receive any adverse, substantive comments, FRA is correcting this oversight by adding the language to Form 4 as proposed in the notice of proposed rulemaking.

Analysis of Comments

FRA asked for comment on the proposed changes to Form 4 and received comments from Union Pacific Railroad Company (UP) and the Association of Railway Museums (ARM). Both commenters support adoption of the proposed rule provided that the changes to Form 4 apply prospectively from the effective date of this final rule. UP and ARM maintain that the rule should not require railroads to revise or update existing Form 4's to include the “shearing stress on rivets” information until such time as 49 CFR part 230 requires railroads to prepare a new or updated Form 4 (e.g., in connection with a 1472 service day inspection under section 230.17).

FRA agrees that the change to Form 4 should apply prospectively. In this regard, railroads are not required to update or revise current Form 4's that were prepared prior to the effective date of this final rule until such time as a new or updated Form 4 is otherwise required by the rule. Form 4's that are prepared after the effective date of this final rule must contain the “shearing stress on rivets” information.

Regulatory Impact

A. Executive Order 12866 and DOT Regulatory Policies and Procedures

This final rule has been evaluated in accordance with existing policies and procedures. It is not considered a significant regulatory action under section 3(f) of Executive Order 12866 and, therefore, was not reviewed by the Office of Management and Budget. This final rule is not significant under the Regulatory Policies and Procedures of the Department of Transportation. The economic impact of the final rule is minimal to the extent that preparation of a regulatory evaluation is not warranted.

B. Regulatory Flexibility Determination

The Regulatory Flexibility Act of 1980 (5 U.S.C. 601 et seq.) requires a review of rules to assess their impact on small entities. This rule corrects a minor omission from the final rule. Therefore, FRA certifies that this final rule does not have a significant economic impact on a substantial number of small entities.

C. Federalism

This final rule will not have a substantial effect on the States, on the relationship between the national government and the States, or the distribution of power and responsibilities among the various levels of government. Thus, in accordance with Executive Order 13132, preparation of a Federalism assessment as not warranted.

D. Paperwork Reduction Act

There are no new information collection requirements in this final rule.

E. Compliance With the Unfunded Mandates Reform Act of 1995

The final rule issued today will not result in the expenditure, in the aggregate, of $120,700,000 or more in any one year by State, local, or Indian tribal governments, or the private sector, and thus preparation of a statement was not required.

F. Environmental Assessment

There will be no significant environmental impacts associated with this final rule.

G. Energy Impact

According to definitions set forth in Executive Order 13211, there will be no significant energy action as a result of the issuance of this final rule.

List of Subjects in 49 CFR Part 230

Steam locomotives, Railroad safety, Penalties, Reporting and recordkeeping requirements.

The Final Rule

In consideration of the foregoing, FRA is amending chapter II, subtitle B of title 49, Code of Federal Regulations as follows:

PART 230—[AMENDED]

1. The authority citation for part 230 continues to read as follows:

Authority: 49 U.S.C. 20103, 20701, 20702; 28 U.S.C. 2461, note; and 49 CFR 1.49.

2. Appendix C to part 230 is amended by revising “FRA Form 4” to read as follows:

Appendix C to Part 230-FRA Inspection Forms

* * * * *

BILLING CODE 4910-06-P

* * * * *

Issued in Washington, DC on July 11, 2005.
Joseph H. Boardman,
Administrator, Federal Railroad Administration.

[FR Doc. 05-14334 Filed 7-20-05; 8:45 am]

BILLING CODE 4910-06-C